NUCLEAR REGULATORY COMMISSION

[NRC-2015-0097]

Managing the Safety/Security Interface

AGENCY: Nuclear Regulatory Commission.

ACTION: Regulatory guide; issuance.

SUMMARY: The U.S. Nuclear Regulatory Commission (NRC) is issuing revision 1 to regulatory guide (RG), RG 5.74, “Managing the Safety/Security Interface,” in which there are minor corrections with no substantive changes in the NRC staff's regulatory positions. This RG describes a method that the staff considers acceptable for licensees to assess and manage changes to safety and security activities so as to prevent or mitigate potential adverse effects that could negatively impact either plant safety or security.

ADDRESSES: Please refer to Docket ID NRC-2015-0097 when contacting the NRC about the availability of information regarding this document. You may obtain publicly-available information related to this document using any of the following methods:

• Federal Rulemaking Web site: Go to http://www.regulations.gov and search for Docket ID NRC-2015-0097. Address questions about NRC dockets to Carol Gallagher; telephone: 301-415-3463; email: Carol.Gallagher@ nrc.gov. For technical questions, contact the individual(s) listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. Revision 1 of RG 5.74 is available in ADAMS under Accession No. ML14323A549.

• NRC's PDR: You may examine and purchase copies of public documents at the NRC's Public Document Room O1-F21, One White Flint North, 11555 Rockville Pike, Rockville, Maryland 20852.

Regulatory guides are not copyrighted, and NRC approval is not required to reproduce them.

FOR FURTHER INFORMATION CONTACT: Wesley Held, Office of Nuclear Security and Incident Response, telephone: 301-415-1583, email: Wesley.Held@nrc.gov; and Stephen Burton, Office of Nuclear Regulatory Research, telephone: 301-415-7000, email: Stephen.Burton@ nrc.gov. Both are staff of the U.S. Nuclear Regulatory Commission, Washington, DC 20555-0001.

SUPPLEMENTARY INFORMATION:

I. Introduction

The NRC is issuing a revision to an existing guide in the NRC's “Regulatory Guide” series. Regulatory guides were developed to describe and make available to the public information and methods that are acceptable to the NRC staff for implementing specific parts of the agency's regulations, techniques that the staff uses in evaluating specific problems or postulated accidents, and data that the staff needs in its review of applications for permits and licenses. The NRC typically seeks public comment on a draft version of a RG by announcing its availability for comment in the Federal Register. However, as explained on page 7 of NRC's Management Directive 6.6 “Regulatory Guides,” (ADAMS Accession No. ML110330475) the NRC may directly issue a final RG without a draft version or public comment-period if the changes to the RG are non-substantive.

The NRC is issuing Revision 1 of RG 5.74 directly as a final RG because the changes between Revision 0 and Revision 1 are non-substantive. Revision 1 of RG 5.74 incorporated editorial changes and updated the guide to the current format for RGs and is administrative in nature. These changes were intended to improve clarity and did not substantially alter the staff's regulatory guidance. These changes included additional questions to assist the user in the screening of planned and emergent activities or changes, and clarification to the requirement that the safety-security interface must be maintained at all times.

II. Backfitting and Issue Finality

Issuance of this final RG does not constitute backfitting as defined in section 50.109 of title 10 of the Code of Federal Regulations (10 CFR), (the Backfit Rule), and is not otherwise inconsistent with the issue finality provisions in 10 CFR part 52. The changes in Revision 1 of RG 5.74 are limited to editorial changes to improve clarity and the correction of a title. These changes do not fall within the kinds of agency actions that constitute backfitting or are subject to limitations in the issue finality provisions of part 52. Accordingly, the NRC did not address the Backfit Rule or issue finality provisions of part 52.

III. Congressional Review Act

This RG is a rule as defined in the Congressional Review Act (5 U.S.C. 801-808). However, the Office of Management and Budget has not found it to be a major rule as defined in the Congressional Review Act.

IV. Submitting Suggestions for Improvement of Regulatory Guides

Revision 1 of RG 5.74 is being issued without public comment. However, you may at any time submit suggestions to the NRC for improvement of existing RGs or for the development of new RGs to address new issues. Suggestions can be submitted by the form available online at http://www.nrc.gov/reading-rm/doc-collections/reg-guides/contactus.html. Suggestions will be considered in future updates and enhancements of the RG.

Dated at Rockville, Maryland, this 14th day of April, 2015.
For the Nuclear Regulatory Commission.
Harriet Karagiannis,
Acting Chief, Regulatory Guidance and Generic Issues Branch, Division of Engineering, Office of Nuclear Regulatory Research.

[FR Doc. 2015-08965 Filed 4-17-15; 8:45 am]

BILLING CODE 7590-01-P